DEPARTMENT OF TRANSPORTATION

Federal Aviation Administration

14 CFR Part 21

[Docket No. FAA-2001-11133; Amendment No. 21-85]

RIN 2120-AH19

Certification of Aircraft and Airmen for the Operation of Light-Sport Aircraft; Correction

AGENCY: Federal Aviation Administration, DOT.

ACTION: Final rule; correction.

SUMMARY: The FAA is correcting an inadvertent error to a final regulation published in the Federal Register of Tuesday, July 27, 2004 (69 FR 44772). The regulation related to the certification of aircraft and airmen for the operation of light-sport aircraft. The correction is to the section concerning experimental certificates.

DATES: The regulation is effective September 1, 2004.

FOR FURTHER INFORMATION CONTACT: Susan Gardner, Flight Standards Service, General Aviation and Commercial Division (AFS-800), Federal Aviation Administration, 800 Independence Ave., SW., Washington, DC 20591; telephone 907-271-2034, or 202-267-8212.

SUPPLEMENTARY INFORMATION: In the preamble to FAA's final rule “Certification of Aircraft and Airmen for the Operation of Light-Sport Aircraft,” the agency stated that it reissued exemptions from 14 CFR part 103 to the Experimental Aircraft Association (EAA), the United States Ultralight Organization (USUA) and Aero Sports Connection (ASC) to permit flight training in ultralight vehicles. These exemptions will expire on January 31, 2008. As stated in the preamble to the final rule, this date coincides with the date established to transition existing ultralight training vehicles and single- and two-place ultralight-like aircraft to the provisions of the final rule.

This document changes a date that was incorrectly provided in the preamble discussion and rule text of paragraph (i)(1) of § 21.191 Experimental certificates. This change is being made to make the rule consistent with the January 31, 2008 date. The changes are as follows:

In FR Doc. 04-16577 appearing on page 44772 in the Federal Register of Tuesday, July 27, 2004, make the following corrections:

1. On page 44807, in the third column, in the 15th and 16th lines from the bottom of the page, “August 31, 2007” is corrected to read “January 31, 2008.”

2. On page 44808, in the third column, in the 15th and 16th lines from the bottom of the page, “August 31, 2007” is corrected to read “January 31, 2008.”

3. On page 44859, in the first column, in the 12th line from the bottom of the page, “August 31, 2007” is corrected to read “January 31, 2008.”

§ 21.191 [Corrected]

4. On page 44862, in the third column, in § 21.191(i)(1), “August 31, 2007” is corrected to read “January 31, 2008.”

Issued in Washington, DC, on August 27, 2004.
Anthony F. Fazio,
Director, Office of Rulemaking.

[FR Doc. 04-19937 Filed 8-27-04; 1:33 pm]

BILLING CODE 4910-13-P